DEPARTMENT OF COMMERCE

International Trade Administration

[A-583-844]

Narrow Woven Ribbons With Woven Selvedge From Taiwan: Preliminary Results and Rescission, in Part, of Antidumping Duty Administrative Review; 2023-2024

AGENCY: Enforcement and Compliance, International Trade Administration, Department of Commerce.

SUMMARY: The U.S. Department of Commerce (Commerce) preliminarily finds that narrow woven ribbons with woven selvedge (ribbons) from Taiwan were sold in the United States at less than normal value (NV) during the period of review (POR), September 1, 2023, through August 31, 2024. Additionally, Commerce is rescinding this administrative review, in part, with respect to certain companies for which requests for review were timely withdrawn. We invite interested parties to comment on these preliminary results.

DATES: Applicable September 5, 2025.

FOR FURTHER INFORMATION CONTACT: Paul Senoyuit, AD/CVD Operations, Office II, Enforcement and Compliance, International Trade Administration, U.S. Department of Commerce, 1401 Constitution Avenue NW, Washington, DC 20230; telephone: (202) 482-6106.

SUPPLEMENTARY INFORMATION:

Background

On September 1, 2010, Commerce published in the Federal Register the antidumping duty (AD) order on ribbons from Taiwan.¹ On September 3, 2024, Commerce published in the Federal Register a notice of opportunity to request an administrative review of the Order for the POR.²

¹ See Narrow Woven Ribbons with Woven Selvedge from Taiwan and the People's Republic of China: Antidumping Duty Orders, 75 FR 53632 (September 1, 2010); see also Narrow Woven Ribbons with Woven Selvedge from Taiwan and the People's Republic of China: Amended Antidumping Duty Orders, 75 FR 56982, 56985 (September 17, 2010) (collectively, Order).

² See Antidumping or Countervailing Duty Order, Finding, or Suspended Investigation; Opportunity To Request Administrative Review and Join Annual Inquiry Service List, 89 FR 71254 (September 3, 2024).

Pursuant to section 751(a)(1) of the Tariff Act of 1930, as amended (the Act), and 19 CFR 351.213(b)(1), on September 30, 2024, Commerce received a timely request to conduct an administrative review of the Order for 59 producers/exporters from Berwick Offray LLC and its wholly-owned subsidiary Lion Ribbon Company, LLC (the petitioners).³ On October 17, 2024, based on this timely request, in accordance with 19 CFR 351.221(c)(1)(i), we initiated an administrative review of the Order.⁴

³ See Petitioners' Letter, “Request for Administrative Review,” dated September 30, 2024.

⁴ See Initiation of Antidumping and Countervailing Duty Administrative Reviews, 89 FR 83644 (October 17, 2024).

On January 15, 2025, the petitioners timely withdrew their request for an administrative review with respect to five companies.⁵ In addition, on July 3, 2025, Commerce stated we intended to rescind this review for the 52 companies with no entries during the POR.⁶ For a complete description of the events that followed the initiation of this review, see the Preliminary Decision Memorandum.⁷

⁵ See Petitioners' Letter, “Withdrawal of Administrative Review Request as to Certain Companies,” dated January 15, 2025 (Withdrawal of Review Request); see also Appendix II.

⁶ See Memorandum, “Notice of Intent to Rescind Review,” dated July 3, 2025; see also Appendix II.

⁷ See Memorandum, “Decision Memorandum for the Preliminary Results of the 2023-2024 Administrative Review of the Antidumping Duty Order on Narrow Woven Ribbons with Woven Selvedge from Taiwan,” dated concurrently with, and hereby adopted by, this notice (Preliminary Decision Memorandum).

Scope of the Order

The products included in the scope of the Order are ribbons from Taiwan. For a complete description of the scope of the Order, see the Preliminary Decision Memorandum.⁸

⁸ Id.

Methodology

Commerce is conducting this review in accordance with sections 751(a)(1)(B) and (2) of the Act. Pursuant to sections 776(a) and (b) of the Act, Commerce preliminarily relied entirely upon facts otherwise available with adverse inferences for Lace Fashions Industrial Co., Ltd. (Lace Fashions) and Trydent Co., Ltd. (Trydent). For a complete description of the methodology underlying our conclusions, see the Preliminary Decision Memorandum. A list of topics discussed in the Preliminary Decision Memorandum is attached in Appendix I of this notice. The Preliminary Decision Memorandum is a public document and is on file electronically via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Rescission of Review, in Part

Pursuant to 19 CFR 351.213(d)(1), Commerce will rescind an administrative review, in whole or in part, if a party who requested the review withdraws the request within 90 days of the date of publication of the notice of initiation of the requested review. On January 15, 2025, the petitioners timely withdrew their request for an administrative review with respect to Dear Year Brothers Mfg. Co., Ltd.; Hao Shyang Ind. Co. Ltd.; Hsien Chan Enterprise Co., Ltd, Novelty Handicrafts Co., Ltd., and Shienq Huong Enterprise Co., Ltd.; ⁹ Lung Che Ribbons Enterprises Co. Ltd.; and Maple Ribbon.¹⁰ Because no other parties requested a review of these companies, we are rescinding the administrative review with respect to these companies. Additionally, we are rescinding this administrative review with respect to 52 companies with no POR entries of subject merchandise. Accordingly, we are rescinding this administrative review, in part, with respect to the 57 companies listed in Appendix II. The administrative review remains active with respect to the mandatory respondents, Lace Fashions and Trydent.

⁹ These three companies are being treated as a single entity for AD purposes. See Narrow Woven Ribbons with Woven Selvedge from Taiwan: Preliminary Determination of Sales at Less Than Fair Value and Postponement of Final Determination, 75 FR 7236 (February 18, 2010), unchanged in Notice of Final Determination of Sales at Less Than Fair Value: Narrow Woven Ribbons with Woven Selvedge from Taiwan, 75 FR 41804 (July 19, 2010).

¹⁰ See Withdrawal of Review Request.

Preliminary Results of Review

Commerce preliminarily determines that the following estimated weighted-average dumping margins exist for the period September 1, 2023, through August 31, 2024:

Producer or exporter | Weighted- average dumping margin (percent)
Lace Fashions Industrial Co., Ltd | * 137.20
Trydent Co., Ltd | * 137.20
* This rate is based on facts available with adverse inferences.

Disclosure

Normally, Commerce discloses to interested parties the calculations performed in connection with its preliminary results finding within five days of any public announcement or, if there is no public announcement, within five days of the date of publication of the notice of preliminary results in the Federal Register, in accordance with 19 CFR 351.224(b). However, because Commerce preliminarily applied total adverse facts available to the two individually examined companies subject to this this review, in accordance with section 776 of the Act, there are no calculations to disclose.

Public Comment

Case briefs or other written comments may be submitted to the Assistant Secretary for Enforcement and Compliance no later than 21 days after the date of publication of these preliminary results.¹¹ Rebuttal briefs, limited to issues raised in the case briefs, may be filed no later than five days after the date for filing case briefs.¹² Interested parties who submit case briefs or rebuttal briefs in this proceeding must submit: (1) a table of contents listing each issue; and, (2) a table of authorities.¹³

¹¹ Commerce is exercising its discretion under 19 CFR 351.309(c)(1)(ii) to alter the time limit for the filing of case briefs. See 19 CFR 351.309(c)(1)(ii).

¹² See 19 CFR 351.309(d); see also Administrative Protective Order, Service, and Other Procedures in Antidumping and Countervailing Duty Proceedings, 88 FR 67069, 67077 (September 29, 2023) (APO and Service Procedures).

¹³ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹⁴ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁵

¹⁴ We use the term “issue” here to describe an argument that Commerce would normally address in a comment of the Issues and Decision Memorandum.

¹⁵ See APO and Service Procedures.

Interested parties who wish to request a hearing must submit a written request to the Assistant Secretary for Enforcement and Compliance, U.S. Department of Commerce, using Enforcement and Compliance's ACCESS system within 30 days of publication of this notice.¹⁶ Requests should contain 1) the party's name, address, and telephone number; 2) the number of participants and whether any participant is a foreign national; and 3) a list of the issues to be discussed. Issues raised in the hearing will be limited to those raised in the case and rebuttal briefs. If a request for a hearing is made, we will inform parties of the scheduled date for the hearing at a time and location to be determined.¹⁷ Parties should confirm by telephone the date, time, and location of the hearing no fewer than two days before the scheduled date. Parties are reminded that all briefs and hearing requests must be filed electronically using ACCESS and received successfully in their entirety by 5:00 p.m. Eastern Time on the due date.

¹⁶ See 19 CFR 351.310(c).

¹⁷ See 19 CFR 351.310.

Assessment Rates

Pursuant to section 751(a)(2)(A) of the Act, upon completion of the final results of administrative review, Commerce shall determine, and U.S. Customs and Border Protection (CBP) shall assess, antidumping duties on all appropriate entries covered by this review.¹⁸

¹⁸ See 19 CFR 351.212(b)(1).

For the companies for which this review is being rescinded, in part, Commerce will instruct CBP to assess antidumping duties on all appropriate entries. Antidumping duties shall be assessed at rates equal to the cash deposit rate for estimated antidumping duties required at the time of entry, or withdrawal from warehouse, for consumption, in accordance with 19 CFR 351.212(c)(1)(i). With respect to the recission of this review, in part, Commerce intends to issue assessment instructions to CBP no earlier than 35 days after the date of publication of this notice in the Federal Register.

For companies subject to this review, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of ribbons from Taiwan entered, or withdrawn from warehouse, for consumption on or after the date of publication, as provided for by section 751(a)(2)(C) of the Act: (1) the cash deposit rate for Lace Fashions and Trydent will be equal to the weighted-average dumping margin established in the final results of this review; (2) for merchandise exported by a company not covered in this review but covered in a prior completed segment of the proceeding, the cash deposit rate will continue to be the company-specific rate published in the completed segment for the most recent period; (3) if the exporter is not a firm covered in this review or another completed segment of this proceeding, but the producer is, then the cash deposit rate will be the company-specific rate established for the completed segment for the most recent period for the producer of the merchandise; and (4) the cash deposit rate for all other manufacturers or exporters will continue to be 4.37 percent, the all-others rate determined in the less-than-fair-value investigation.¹⁹ These cash deposit requirements, when imposed, shall remain in effect until further notice.

¹⁹ See Order, 75 FR at 56985.

Final Results of Review

Unless the deadline is extended pursuant to section 751(a)(3)(A) of the Act and 19 CFR 351.213(h)(2), Commerce will issue the final results of this administrative review, including the results of our analysis of the issues raised by the parties in their case briefs, not later than 120 days after the date of publication of this notice, pursuant to section 751(a)(3)(A) of the Act.

Notification to Importers

This notice serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of countervailing duties.²⁰

²⁰ See 19 CFR 351.402(f)(3).

Notification to Interested Parties

We are issuing and publishing these preliminary results in accordance with sections 751(a)(1) and 777(i) of the Act, and 19 CFR 351.213(h) and 351.221(b)(4).

Dated: August 28, 2025.
Abdelali Elouaradia,
Deputy Assistant Secretary for Enforcement and Compliance.

Appendix I

List of Topics Discussed in the Preliminary Decision Memorandum

I. Summary

II. Background

III. Scope of the Order

IV. Rescission of Review, In Part

V. Discussion of the Methodology

VI. Recommendation

Appendix II

Companies Rescinded From Review

1. A-MADEUS TEXTILE LTD.

2. A-MEN Ribbons Co., Ltd.

3. Antonio Proietti Int. Inc.

4. Apex Trimmings

5. Banduoo Ltd.

6. Bon-Mar Textiles

7. Chang Store Co. Ltd

8. Cheng Hsing Ribbon Factory

9. Cheng Mei Label Mfg. Corp.

10. Christmas Castle International Ltd.

11. Dear Year Brothers Mfg. Co., Ltd.

12. Dearcobber International Co Ltd

13. Ethel Enterprise Co., Ltd.; Glory Young Enterprise Co., Ltd.; King Young Enterprise Co., Ltd.

14. Everwin Textile Corp.

15. Fist Labeling Corp.

16. Friend Chiu Co., Ltd.

17. Fujian Rongshu Industry Co., Ltd.

18. Golden State Industrial Co. Ltd.

19. Great Texture Int'l Co., Ltd.

20. Guangzhou Complacent Weaving Co., Ltd.

21. Gyrostate Corp.

22. Hao Shyang Ind. Co. Ltd.

23. Hen Hao Trading Co. Ltd; Taiwan Tulip Ribbons and Braids Co. Ltd.

24. Hsien Chan Enterprise Co., Ltd.; Novelty Handicrafts Co. Ltd.; Shienq Huong Enterprise Co., Ltd.

25. Hubscher Ribbon Corp., Ltd.; Hubschercorp

26. Imprimerie Mikan Inc.

27. J.S. (Just Splendid) Co., Ltd.

28. JCben Enterprises Co. Ltd.

29. Junmay Label Mfg Corp.

30. L'Emballage Tout 6

31. Linset Enterprises Co., Ltd.

32. Lung Che Ribbons Enterprises Co. Ltd.

33. Maple Ribbon Co., Ltd.

34. Maxtend Industry Corporation

35. May Favor Enterprise Co., Ltd

36. Ming Wei Co., Ltd.

37. Multicolor

38. N.K. Galleria Inc.

39. Nien Chow Industrial Co.

40. Pansy Weaving Co., Ltd.

41. Papillon Ribbon & Bow (Canada)

42. Papillon Ribbon & Bow (H.K.) Ltd.

43. Papillon Ribbon & Bow (Shanghai) Ltd.

44. Pearl Ribbons and Trims, Inc.

45. Ren Her Industry Co. Ltd.

46. Ribbon City Company

47. Roung Shu Industry Corporation;

48. Rubans G A R Inc. (Les)

49. Trio Co., Ltd

50. Tse Tien Shin Enterprise Co Ltd

51. Tsong Jiaw Enterprise Co., Ltd.

52. Wing Hung (Tw) Co Ltd

53. Xiamen Especial Industrial Co., Ltd.

54. Xiamen Yi-He Textile Co., Ltd.

55. Yanzhou Bespak Gifts & Crafts Co

56. Yih Jenq Textile Co. Ltd.

57. Yu Shin Development Co. Ltd.

[FR Doc. 2025-17068 Filed 9-4-25; 8:45 am]

BILLING CODE 3510-DS-P